DEPARTMENT OF COMMERCE

International Trade Administration

Department of Commerce Measuring and Enhancing Services Trade Data Conference

AGENCY: International Trade Administration, U.S. Department of Commerce.

ACTION: Notice of kickoff event to improve services trade data.

SUMMARY: The International Trade Administration, in conjunction with the Bureau of Economic Analysis, the Census Bureau and the Bureau of Labor Statistics, is announcing a kick-off event for its services trade data initiative. DOC is working to ensure that the measurement of economic activity and trade in the services sector is more robust, granular and meaningful. Primary goals include enhancements to services data to ensure that it is effective for commercial decision-making, policy planning, and is relevant for trade agreements in support of increased US services exports. DOC has invited well-known policy leaders from the White House, the Department, and private sector innovators in the services information arena to speak on the topic.

DATES: The conference will be held on September 14, 2010.

Address all comments concerning this notice to the Office of Service Industries, U.S. Department of Commerce, 1401 Constitution Ave., NW., Room 1104, Washington, DC 20230.

FOR FURTHER INFORMATION CONTACT: Barb Rawdon, 202-482-0474 or Barb.Rawdon@trade.gov

SUPPLEMENTARY INFORMATION: There are significant weaknesses in data on services, even though services industries account for roughly 70 percent of the U.S. gross domestic product. Without timely, accurate information on the services sector, businesses and policy makers lack the information necessary to understand a major share of the economy and to develop modern trade and investment policy. As a first step in our Service Industry Statistical Initiative, DOC will hold a conference on September 14, 2010, to focus on measuring and enhancing services trade data.

The conference will include key players from the public and private sector with the main goal of seeking broader support and direction for improving the quality and timeliness of services trade data. A key outcome of the conference will be the development of an action plan and working groups to improve certain discrete elements of services data collection and dissemination by various public and private sector organizations.

Current issues regarding services statistics include: limitations of the industry classification system, granularity of data, adequacy of survey detail in tracking of services, accounting for intangible assets, and accuracy of service price indices.

The target audience for the conference includes senior managers from private sector companies and government, along with participants from the public policy community. The morning session will focus on the current and future status of services trade data along with innovative ideas for the future. The afternoon sessions will feature free-flowing industry-specific discussions designed to spark a dialogue on improvement ranging from readily available solutions to transformational technologies and analytics that enable better business and public policy decision-making.

DOC will accept registrations on a first-come-first-served basis. Participants will be charged $75 for attending these events if they register before September 7, 2010, and $100 if they register on or after September 7, 2010. Those who are interested in attending this event should call 703-925-9455 ext. 0.

Dated: July 29, 2010.
Barb Rawdon,
Director, Education, Healthcare and Professional Services.

[FR Doc. 2010-19059 Filed 8-2-10; 8:45 am]

BILLING CODE 3510-DR-P